DEPARTMENT OF COMMERCE

National Oceanic and Atmospheric Administration

RIN 0648-XA837

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee (SSC) on December 13, 2011 to consider actions affecting New England fisheries in the exclusive economic zone (EEZ). Recommendations from this group will be brought to the full Council for formal consideration and action, if appropriate.

DATES: This meeting will be held on Tuesday, December 13 at 9 a.m.

ADDRESSES: The meeting will be held at the Seaport Hotel, One Seaport Lane Boston, MA 02210; telephone: (617) 385-4000; fax: (617) 385-4001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Scientific and Statistical Committee (SSC) will discuss the 2012 SSC calendar and tasks, social science issues including socioeconomic considerations in setting acceptable biological catches (ABCs); improving SSC outreach, research priorities, advisory panel input in the process for making ABC recommendations, SSC liaison assignments to Council Plan Development Teams, using Council advisory panel information in developing ABC recommendations; risk policy development, 2012 National SSC Workshop recommendations and NRCC Assessment Workgroup recommendations.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: November 16, 2011.
Tracey L. Thompson,
Acting Director, Office of Sustainable Fisheries, National Marine Fisheries Service.

[FR Doc. 2011-29950 Filed 11-18-11; 8:45 am]

BILLING CODE 3510-22-P